UNITED STATES INTERNATIONAL TRADE COMMISSION

[USITC SE-12-005]

Government in the Sunshine Act Meeting Notice

AGENCY: Agency Holding the Meeting: United States International Trade Commission.

DATES: Time and Date: March 14, 2012 at 11 a.m.

Place: Room 101, 500 E Street SW., Washington, DC 20436, Telephone: (202) 205-2000.

Status: Open to the public.

Matters To Be Considered

1. Agendas for future meetings: None.

2. Minutes.

3. Ratification List.

4. Vote in Inv. No. 731-TA-1089 (Review)(Certain Orange Juice from Brazil). The Commission is currently scheduled to transmit its determination and Commissioners' opinions to the Secretary of Commerce on or before March 27, 2012.

5. Outstanding action jackets: None.

In accordance with Commission policy, subject matter listed above, not disposed of at the scheduled meeting, may be carried over to the agenda of the following meeting.

Issued: March 5, 2012.
By order of the Commission.
James R. Holbein,
Secretary to the Commission.

[FR Doc. 2012-5722 Filed 3-6-12; 11:15 am]

BILLING CODE 7020-02-P